DEPARTMENT OF HOUSING AND URBAN DEVELOPMENT

[Docket No. FR-4837-D-36]

Amendment of Redelegation of Authority Under the Privacy Act of 1974

AGENCY: Office of the General Counsel, HUD.

ACTION: Notice of amendment of redelegation of authority.

SUMMARY: This notice amends a redelegation of authority under the Privacy Act from HUD's General Counsel to certain Associate General Counsels. The amendment reflects a change in the organizational structure of the Office of General Counsel that created a new position.

EFFECTIVE DATE: June 12, 2003.

FOR FURTHER INFORMATION CONTACT: Dane Narode, Assistant General Counsel for Administrative Proceedings, Office of the General Counsel, Department of Housing and Urban Development, 451 Seventh Street, SW., Room B-133, CEP, Washington, DC 20410-0500, telephone (202) 708-2350. (This is not a toll-free number.) For those needing assistance, this number may be accessed through TTY by calling the toll-free Federal Information Relay Service number at 1-800-877-8339.

SUPPLEMENTARY INFORMATION: On October 11, 1996 (61 FR 53382), the Department published a notice delegating and redelegating certain authority under the Privacy Act, as specified in the redelegation of authority, to the General Counsel and to certain Associate General Counsels. In order to assist in enforcement activities carried out by the Office of General Counsel on behalf of the Department, the delegation provides the General Counsel with the authority under the Privacy Act of 1974 to make written requests, for purposes of law enforcement activities, to other agencies for the transfer of records or copies of records maintained by such other agencies, as the General Counsel deems necessary. The General Counsel redelegated this authority to various Associate General Counsels in the Department. This delegation and redelegation are necessary to assist in enforcement activities carried out by the Office of General Counsel on behalf of the Department. This amendment makes the redelegation consistent with a reorganization within the Office of General Counsel. The redelegation of authority is being amended to replace the Associate General Counsel for Litigation and Fair Housing Enforcement with the Associate General Counsel for Litigation and the Associate General Counsel for Fair Housing.

Accordingly, the redelegation of authority published on October 11, 1996 (61 FR 53382) is amended as follows:

Section B. Amendment of Redelegation of Authority

Section B of the delegation and redelegation of authority published on October 11, 1996 (61 FR 53382) is amended to read as follows:

The General Counsel of the Department of Housing and Urban Development hereby redelegates all of the power and authority delegated in Section A., above, to the following Associate General Counsels:

The Associate General Counsel for Program Enforcement;

The Associate General Counsel for Finance and Regulatory Enforcement;

The Associate General Counsel for Litigation; and

The Associate General Counsel for Fair Housing.

Authority: Sec. 7(d) of the Department of Housing and Urban Development Act (42 U.S.C. 3535(d)).

Dated: June 12, 2003.
Richard A. Hauser,
General Counsel.

[FR Doc. 03-15704 Filed 6-20-03; 8:45 am]

BILLING CODE 4210-67-P